DEPARTMENT OF HEALTH AND HUMAN SERVICES

Centers for Disease Control and Prevention

Disease, Disability, and Injury Prevention and Control Special Emphasis Panel: Preliminary Investigation of Health Effects of Occupational Exposures in Paducah Gaseous Diffusion Plant Workers, Program Announcement OH-99-143

In accordance with section 10(a)(2) of the Federal Advisory Committee Act (Pub. L. 92-463), the Centers for Disease Control and Prevention (CDC) announces the following teleconference meeting:

Name: Disease, Disability, and Injury Prevention and Control Special Emphasis Panel (SEP): Preliminary Investigation of Health Effects of Occupational Exposures in Paducah Gaseous Diffusion Plant (PGDP) Workers, Program Announcement OH-99-143.

Times and Dates: 2 p.m.-2:15 p.m., March 26, 2002 (Open), 2:20 p.m.-4 p.m., March 26, 2002 (Closed).

Place: Teleconference number: 513.841.4560.

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of the application received under the Memorandum of Understanding between the Department of Energy and the Department of Health and Human Services.

Note: Due to programmatic issues that had to be resolved, this Federal Register Notice is being published less than fifteen days before the date of the meeting.

CONTACT PERSON FOR MORE INFORMATION: Kathleen Goedel, National Institute for Occupational Safety and Health, CDC, 4676 Columbia Parkway, M/S R-6, Cincinnati, Ohio 45226, telephone 513-841-4560.

The Director, Management Analysis and Services Office has been delegated the authority to sign Federal Register notices pertaining to announcements of meetings and other committee management activities, for both the Centers for Disease Control and Prevention and the Agency for Toxic Substances and Disease Registry.

Dated: March 13, 2002.
Alvin Hall,
Acting Director, Management Analysis and Services Office, Centers for Disease Control and Prevention (CDC).

[FR Doc. 02-6656 Filed 3-15-02; 11:53 am]

BILLING CODE 4163-19-P